DEPARTMENT OF AGRICULTURE

Forest Service

Yavapai County Resource Advisory Committee

AGENCY: Forest Service, USDA.

ACTION: Notice of meeting.

SUMMARY: The Yavapai County Resource Advisory Committee (RAC) will meet in Prescott, Arizona. The committee is meeting as authorized under the Secure Rural Schools and Community Self-Determination Act (the Act) and operates in compliance with the Federal Advisory Committee Act. The purpose of the committee is to improve collaborative relationships and to provide advice and recommendations to the Forest Service concerning projects and funding consistent with Title II of the Act. RAC information, including the meeting agenda and the meeting summary/minutes can be found at the following website: https://www.fs.usda.gov/main/prescott/workingtogether/advisorycommittees.

DATES: The meeting will be held on May 31, 2019, from 8:00 a.m. to 11:00 a.m.

All RAC meetings are subject to cancellation. For updated status of the meetings prior to attendance, please contact the person listed under FOR FURTHER INFORMATION CONTACT.

ADDRESSES: The meeting will be held at the Prescott National Forest Supervisor's Office, 2971 Willow Creek Road, Building 4, Prescott, Arizona.

Written comments may be submitted as described under SUPPLEMENTARY INFORMATION. All comments, including names and addresses when provided, are placed in the record and are available for public inspection and copying. The public may inspect comments received at the Prescott National Forest Supervisor's Office. Please call ahead to facilitate entry into the building.

FOR FURTHER INFORMATION CONTACT: Debbie Maneely, RAC Coordinator, Prescott National Forest, 2971 Willow Creek Road, Building 4, Prescott, Arizona 86301, by telephone at (928) 443-8130 or via email at dmaneely@fs.fed.us.

SUPPLEMENTARY INFORMATION: The purpose of the meeting is to discuss the following:

(1) Welcome and Introductions;

(2) Overview of Secure Rural Schools Act, RAC Overview, and Discussion of the Roles of the Designated Federal Officer and Committee Members;

(3) Review RAC Charter and Operating Guidelines;

(4) RAC Project Overview;

(5) Selection of RAC Chairperson; and

(6) Questions, Answers, and Next Steps

These meetings are open to the public. The agenda will include time for people to make oral statements of three minutes or less. Individuals wishing to make an oral statement should request in writing by May 24, 2019, to be scheduled on the agenda. Anyone who would like to bring related matters to the attention of the committee may file written statements with the committee staff before or after the meetings.

Written comments and requests for time for oral comments must be sent to Debbie Maneely, RAC Coordinator, Prescott National Forest, 2971 Willow Creek Road, Building 4, Prescott, Arizona 86301; by telephone at (928) 443-8130 or via email at dmaneely@fs.fed.us.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: March 25, 2019.
Allen Rowley,
Acting Associate Deputy Chief, National Forest System.

[FR Doc. 2019-07606 Filed 4-16-19; 8:45 am]

BILLING CODE 3411-15-P